DEPARTMENT OF DEFENSE

Department of the Navy

Notice of Intent To Grant Exclusive Patent License; Fiber Optic Sensor Systems Technology Corporation

AGENCY: Department of the Navy, DoD.

ACTION: Notice.

SUMMARY: The Department of the Navy hereby gives notice of its intent to grant to Fiber Optic Sensor Systems Technology Corporation a revocable, nonassignable, exclusive license to practice the field of use of electrical power measurements for the measurement or control of temperature, pressure, strain, vibration, acceleration, and any other measurement enabled in electrical power systems, including but not limited to, substations, generating facilities, transmission lines, distribution facilities and other electrical power infrastructure and in electrical power systems equipment, including but not limited to, generators, motors, transformers, switches, power supplies, batteries and other devices employed to generate, transform, transport, distribute or store electrical energy; the field of use microphones for the measurement of sound pressure; the field of use of monitoring and control systems used in industrial production and infrastructure monitoring and control, including particularly supervisory control systems and distributed control systems used in manufacturing, mining and utilities in the United States, the Government-owned inventions described in U.S. Patent No. 7,020,354: Intensity Modulated Fiber Optic Pressure Sensor, Navy Case No. 83,816.//U.S. Patent No. 7,149,374: Fiber Optic Pressure Sensor, Navy Case No. 84,557.//U.S. Patent No. 7,379,630: Multiplexed Fiber Optic Sensor System, Navy Case No. 97,488.//U.S. Patent No. 7,460,740: Intensity Modulated Fiber Optic Static Pressure Sensor System, Navy Case No. 97,279.//U.S. Patent No. 7,646,946: Intensity Modulated Fiber Optic Strain Sensor, Navy Case No. 97,005.//U.S. Patent No. 7,697,798: Fiber Optic Pressure Sensors and Catheters, Navy Case No. 97,569.//U.S. Patent No. 8,195,013: Miniature Fiber Optic Temperature Sensors, Navy Case No. 98,030.//U.S. Patent Application No. 12/698,646: Miniature Fiber Optic Temperature Sensors, Navy Case No. 100,134 and any continuations, divisionals or re-issues thereof.

DATES: Anyone wishing to object to the grant of this license must file written objections along with supporting evidence, if any, not later than December 26, 2012.

ADDRESSES: Written objections are to be filed with the Naval Research Laboratory, Code 1004, 4555 Overlook Avenue SW., Washington, DC 20375-5320.

FOR FURTHER INFORMATION CONTACT: Rita Manak, Head, Technology Transfer Office, NRL Code 1004, 4555 Overlook Avenue SW., Washington, DC 20375-5320, telephone 202-767-3083. Due to U.S. Postal delays, please fax 202-404-7920, email: rita.manak@nrl.navy.mil or use courier delivery to expedite response.

(Authority: 35 U.S.C. 207, 37 CFR Part 404.)

Dated: December 3, 2012.
C.K. Chiappetta,
Lieutenant Commander, Office of the Judge Advocate General, U.S. Navy, Federal Register Liaison Officer.

[FR Doc. 2012-29719 Filed 12-7-12; 8:45 am]

BILLING CODE 3810-FF-P